DEPARTMENT OF HOMELAND SECURITY

Federal Emergency Management Agency

44 CFR Part 67

[Docket ID FEMA-2011-0002; Internal Agency Docket No. FEMA-B-1207]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before November 1, 2011.

ADDRESSES: The corresponding preliminary Flood Insurance Rate Map (FIRM) for the proposed BFEs for each community is available for inspection at the community's map repository. The respective addresses are listed in the table below.

You may submit comments, identified by Docket No. FEMA-B-1207, to Luis Rodriguez, Chief, Engineering Management Branch, Federal Insurance and Mitigation Administration, Federal Emergency Management Agency, 500 C Street SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Cadiz, Kentucky
Kentucky | City of Cadiz | Little River (backwater effects from Lake Barkley) | From the Lake Barkley confluence to approximately 4.5 miles upstream of the Lake Barkley confluence | None | +375
Kentucky | City of Cadiz | Little River Tributary 1 (backwater effects from Lake Barkley) | From the Little River confluence to approximately 1,678 feet upstream of the Little River confluence | None | +375
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Cadiz
Maps are available for inspection at 63 Main Street, Cadiz, KY 42211.
Unincorporated Areas of Caldwell Parish, Louisiana
Louisiana | Unincorporated Areas of Caldwell Parish | Hurricane Creek/Branch 2-3 | Approximately 0.9 mile upstream of the Hurricane Creek confluence | None | +146
|  |  | Approximately 1.0 mile upstream of the Hurricane Creek confluence | None | +146
Louisiana | Unincorporated Areas of Caldwell Parish | Hurricane Creek/Branch 3-1 | Approximately 1,275 feet upstream of the Hurricane Creek confluence | None | +168
|  |  | Approximately 1.0 mile upstream of the Hurricane Creek confluence | None | +168
Louisiana | Unincorporated Areas of Caldwell Parish | Hurricane Creek/Branch 3-4 (Hanchey Tributary) | Approximately 265 feet upstream of the Hurricane Creek confluence | None | +156
|  |  | Approximately 0.87 mile upstream of the Hurricane Creek confluence | None | +156
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Caldwell Parish
Maps are available for inspection at the Caldwell Parish Community Recreation Center, 911 Complex, 6563 U.S. Route 165, Columbia, LA 71418.
Town of Stuckey, South Carolina
South Carolina | Town of Stuckey | Indiantown Swamp | At the upstream side of Mount Carmel Road | None | +31
|  |  | Approximately 0.56 mile upstream of Mount Carmel Road | None | +32
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Stuckey
Maps are available for inspection at the Town Office, 11 Town Hall Road, Stuckey, SC 29554.

Flooding source(s) | Location of referenced elevation ** | * Elevation in feet (NGVD) + Elevation in feet(NAVD) # Depth in feet above ground ‸ Elevation in meters (MSL): Effective | * Elevation in feet (NGVD) + Elevation in feet(NAVD) # Depth in feet above ground ‸ Elevation in meters (MSL): Modified | Communities affected
Carroll County, New Hampshire (All Jurisdictions)
Bay Tributary 1 | At the Moultonborough Bay confluence | None | +506 | Town of Moultonborough.
| Approximately 1.09 miles upstream of the Bay Tributary 1.1 divergence | None | +547
Bay Tributary 1.1 | At the Moultonborough Bay confluence | None | +506 | Town of Moultonborough.
| At the Bay Tributary 1 divergence | None | +515
Bearcamp River | At the upstream side of Covered Bridge Road | +428 | +429 | Town of Ossipee.
| Approximately 520 feet upstream of Covered Bridge Road | +430 | +431
Bearcamp River | Approximately 2.06 miles upstream of State Route 113 (Tamworth Road) | +567 | +566 | Town of Tamworth.
| Approximately 2.15 miles upstream of State Route 113 (Tamworth Road) | +571 | +570
Berry Pond/Berry Pond Tributary 1 | Approximately 150 feet upstream of State Route 25 (Whittier Highway) | None | +568 | Town of Moultonborough, Town of Sandwich.
| Approximately 2.6 miles upstream of State Route 25 (Whittier Highway) | None | +622
Berry Pond Diversion | At the Red Hill River confluence | None | +536 | Town of Moultonborough.
| At the Berry Pond divergence | None | +569
East Branch Saco River | Approximately 160 feet upstream of U.S. Route 302B (State Route 16A) | +565 | +566 | Town of Bartlett, Town of Jackson.
| Approximately 0.63 miles upstream of Town Hall Road | +835 | +836
Halfway Brook | At the Moultonborough Bay confluence | None | +506 | Town of Moultonborough.
| Approximately 1.29 miles upstream of Ossipee Mountain Road | None | +1428
Halfway Brook Tributary 1 | At the Halfway Brook confluence | None | +529 | Town of Moultonborough.
| Approximately 0.88 miles upstream of the Halfway Brook confluence | None | +541
Moultonborough Bay | Entire shoreline | None | +506 | Town of Moultonborough.
Ossipee Lake | Entire shoreline | None | +414 | Town of Effingham.
Pequawket Pond | Entire shoreline within community | None | +464 | Town of Albany.
Province Lake | Entire shoreline | None | +480 | Town of Effingham.
Red Hill River | At the Moultonborough Bay confluence | None | +506 | Town of Moultonborough, Town of Sandwich.
| Approximately 1.70 miles upstream of School House Road | None | +587
Red Hill River Tributary 1 | At the Red Hill River confluence | None | +536 | Town of Moultonborough.
| Approximately 0.80 miles upstream of Sheridan Road | None | +878
Red Hill River | At the Red Hill River confluence | None | +536 | Town of Moultonborough.
Tributary 1 Diversion | At the Red Hill River Tributary 1 divergence | None | +600
Rocky Branch | Approximately 70 feet upstream of U.S. Route 302 (Crawford Notch Road) | +573 | +574 | Town of Bartlett.
| Approximately 520 feet upstream of U.S. Route 302 (Crawford Notch Road) | +575 | +576
Rocky Branch | Approximately 0.47 miles upstream of U.S. Route 302 (Crawford Notch Road) | +607 | +608 | Town of Bartlett.
| Approximately 0.90 miles upstream of U.S. Route 302 (Crawford Notch Road) | +655 | +656
Saco River | Approximately 1,970 feet upstream of Maine Central Railroad | None | +756 | Town of Hart's Location.
| Approximately 0.85 miles upstream of Maine Central Railroad | None | +772
Shannon Brook | At the Moultonborough Bay confluence | None | +506 | Town of Moultonborough.
| Approximately 1.07 miles upstream of State Route 171 (Old Mountain Road) | None | +1202
Shannon Brook Tributary 1 | At the Shannon Brook confluence | None | +550 | Town of Moultonborough.
| Approximately 400 feet upstream of State Route 109 (Governor Wentworth Highway) | None | +588
Squam Lake | Entire shoreline | None | +565 | Town of Moultonborough, Town of Sandwich.
Weed Brook | At the Berry Pond confluence | None | +569 | Town of Moultonborough, Town of Sandwich.
| Approximately 650 feet upstream of State Route 25 (Whittier Highway) | None | +701
Weed Brook Diversion | At the Weed Brook Tributary 1 confluence | None | +569 | Town of Moultonborough.
| At the Weed Brook divergence | None | +585
Weed Brook Tributary 1 | At the Weed Brook confluence | None | +600 | Town of Moultonborough.
| Approximately 1,700 feet upstream of Bodge Hill Road | None | +785
Wildcat Brook | Approximately 1,560 feet downstream of Meloon Road | +1116 | +1115 | Town of Jackson.
| Approximately 120 feet downstream of Meloon Road | +1177 | +1176
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Albany
Maps are available for inspection at the Town Hall, 1972-A State Route 16, Albany, NH 03818.
Town of Bartlett
Maps are available for inspection at the Bartlett Town Hall, 56 Town Hall Road, Intervale, NH 03845.
Town of Effingham
Maps are available for inspection at the Town Hall, 68 School Street, Effingham, NH 03882.
Town of Hart's Location
Maps are available for inspection at the Town Hall, 979 U.S. Route 302, Hart's Location, NH 03812.
Town of Jackson
Maps are available for inspection at the Town Hall, 54 Main Street, Jackson, NH 03846.
Town of Moultonborough
Maps are available for inspection at the Town Hall, 6 Holland Street, Moultonborough, NH 03254.
Town of Ossipee
Maps are available for inspection at the Ossipee Town Hall, 55 Main Street, Center Ossipee, NH 03814.
Town of Sandwich
Maps are available for inspection at the Sandwich Town Hall, 8 Maple Street, Center Sandwich, NH 03227.
Town of Tamworth
Maps are available for inspection at the Town Hall, 84 Main Street, Tamworth, NH 03886.
Juniata County, Pennsylvania (All Jurisdictions)
Susquehanna River | At the downstream Northumberland County boundary | +405 | +403 | Township of Susquehanna.
| At the West Mahantango Creek confluence | +408 | +405
Tuscarora Creek | Approximately 0.9 mile upstream of Groninger Valley Road | None | +445 | Township of Spruce Hill.
| Approximately 3.1 miles upstream of Groninger Valley Road | None | +461
West Mahantango Creek | At the Susquehanna River confluence | +408 | +405 | Township of Susquehanna.
| Approximately 60 feet downstream of Old Trail Road | +408 | +407
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Spruce Hill
Maps are available for inspection at the Spruce Hill Township Secretary's Office, 727 Half Moon Road, Port Royal, PA 17082.
Township of Susquehanna
Maps are available for inspection at the Susquehanna Township Hall, 358 Fairground Road, Liverpool, PA 17045.

(Catalog of Federal Domestic Assistance No. 97.022, “Flood Insurance.”)

Dated: July 22, 2011.
Sandra K. Knight,
Deputy Federal Insurance and Mitigation Administrator, Mitigation, Department of Homeland Security, Federal Emergency Management Agency.

[FR Doc. 2011-19546 Filed 8-2-11; 8:45 am]

BILLING CODE 9110-12-P